DEPARTMENT OF THE INTERIOR

Bureau of Land Management

[LLCO923000-L1440000-ET0000; COC-080815]

Notice of Proposed Withdrawal and Public Meeting, Thompson Divide Area, Colorado; Correction

AGENCY: Bureau of Land Management, Interior.

ACTION: Notice; correction.

SUMMARY: The Bureau of Land Management (BLM) published a document in the Federal Register on October 17, 2022, concerning a proposal to withdraw Federal lands in the Thompson Divide area from all forms of entry, appropriation, and disposal under the public land laws; location, entry, and patent under the mining laws; and operation of the mineral leasing, mineral materials, and geothermal leasing laws, subject to valid existing rights. The document included the date and location of a public meeting that will be held on the proposal; however, it failed to state the time of the meeting.

DATES: Comments must be received by the BLM by January 16, 2023. A public meeting is scheduled for December 14, 2022, from 5 p.m. to 7 p.m.

FOR FURTHER INFORMATION CONTACT: Jennifer Jardine, Senior Realty Specialist, BLM Colorado State Office, telephone: (970) 385-1224; email: jjardine@blm.gov. Individuals in the United States who are deaf, deafblind, hard of hearing, or have a speech disability may dial 711 (TTY, TDD, or TeleBraille) to access telecommunications relay services for contacting Ms. Jardine. Individuals outside the United States should use the relay services offered within their country to make international calls to the point-of-contact in the United States.

SUPPLEMENTARY INFORMATION:

Correction

In the Federal Register of October 17, 2022, in FR Doc. 2022-22448, on page 62878, in the third column, correct the “Dates” caption to read:

DATES: Comments must be received by the BLM by January 16, 2023. A public meeting is scheduled for December 14, 2022, from 5 p.m. to 7 p.m.

Douglas J. Vilsack,
BLM Colorado State Director.

[FR Doc. 2022-24952 Filed 11-14-22; 8:45 am]

BILLING CODE 4310-JB-P